DEPARTMENT OF STATE

[Public Notice: 7789]

60-Day Notice of Proposed Information Collection: English Language Evaluation Surveys, OMB Control Number 1405-xxxx.

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: English Language Evaluation: Fulbright English Teaching Assistantship (ETA) Program Survey.

• OMB Control Number: None.

• Type of Request: New Collection.

• Originating Office: Bureau of Educational and Cultural Affairs, Office of Policy and Evaluation, Evaluation Division (ECA/P/V)

• Form Number: SV2011-0031.

• Respondents: U.S. participants of the ETA program from 2004-2009.

• Estimated Number of Respondents: 2,350 annually.

• Estimated Number of Responses: 2,350 annually.

• Average Hours per Response: 40 minutes.

• Total Estimated Burden: 1,567 hours annually.

• Frequency: One time.

• Obligation to Respond: Voluntary.

• Title of Information Collection: English Language Evaluation: English Language Specialist Program Survey.

• OMB Control Number: None.

• Type of Request: New Collection.

• Originating Office: Bureau of Educational and Cultural Affairs, Office of Policy and Evaluation, Evaluation Division (ECA/P/V)

• Form Number: SV2011-0032.

• Respondents: Participants of the English Language Specialist Program from 2004-2009.

• Estimated Number of Respondents: 250 annually.

• Estimated Number of Responses: 250 annually.

• Average Hours per Response: 40 minutes.

• Total Estimated Burden: 167 hours annually.

• Frequency: One time.

• Obligation to Respond: Voluntary.

• Title of Information Collection: English Language Evaluation: E-Teacher Scholarship Program Survey.

• OMB Control Number: None.

• Type of Request: New Collection.

• Originating Office: Bureau of Educational and Cultural Affairs, Office of Policy and Evaluation, Evaluation Division (ECA/P/V)

• Form Number: SV2011-0033.

• Respondents: Participants of the E-Teacher Scholarship Program from 2004-2009.

• Estimated Number of Respondents: 800 annually.

• Estimated Number of Responses: 800 annually.

• Average Hours per Response: 40 minutes.

• Total Estimated Burden: 533 hours annually.

• Frequency: One time.

• Obligation to Respond: Voluntary.

DATES: The Department will accept comments from the public up to 60 days from February 7, 2012.

ADDRESSES: You may submit comments by any of the following methods:

• Email: HaleMJ2@state.gov.

• Mail (paper, disk, or CD-ROM submissions): ECA/P/V, SA-5, C2 Floor, Department of State, Washington, DC 20522-0505.

• Fax: 202-632-6320.

• Hand Delivery or Courier: ECA/P/V, SA-5, C2 Floor, Department of State, 2200 C Street NW., Washington, DC 20037.

You must include the DS form number (if applicable), information collection title, and OMB control number in any correspondence.

FOR FURTHER INFORMATION CONTACT: Direct requests for additional information regarding the collection listed in this notice, including requests for copies of the proposed information collection and supporting documents, to Michelle Hale, ECA/P/V, SA-5, C2 Floor, Department of State, Washington, DC 20522-0582, who may be reached on 202-632-6312 or at HaleMJ2@state.gov.

SUPPLEMENTARY INFORMATION:

We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: To meet OMB and Congressional reporting requirements, this request for a new information collection clearance will allow ECA/P/V, as part of the English Language Evaluation, to conduct surveys of participants in the ETA Program, E-Teacher Scholarship program, and the English Language Specialist Program. Participants are those who went on the programs between the years of 2004 and 2009. Collecting this data will help ECA/P/V assess the impact the programs have had on the respective participants, as well as the effectiveness of these programs in meeting their goals.

Methodology: Evaluation data will be collected via Vovici, an on-line surveying tool.

Dated: January 23, 2012.
Matt Lussenhop,
Director of the Office of Policy and Evaluation, Bureau of Educational and Cultural Affairs, Department of State.

[FR Doc. 2012-2810 Filed 2-6-12; 8:45 am]

BILLING CODE 4710-05-P